DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: April 23, 2015.
Roy E. Wright,
Deputy Associate Administrator for Mitigation, Department of Homeland Security, Federal Emergency Management Agency.

State and county | Location and case No. | Chief executive officer of community | Community map repository | Effective date of modification | Community No.
Arkansas: Sebastian, (FEMA Docket No.: B-1444). | City of Fort Smith, (13-06-0554P). | Mr. Ray Gosack, Administrator, City of Fort Smith, P.O. Box 1908, Fort Smith, AR 72902. | 623 Garrison Avenue, 3rd Floor, Room 315, Fort Smith, AR 72901. | January 23, 2015 | 055013
New Mexico: Lincoln, (FEMA Docket No.: B-1458). | Unincorporated areas of Lincoln County, (14-06-2363P). | Ms. Nita Taylor, Manager, Lincoln County, P.O. Box 711, Carrizozo, NM 88301. | Lincoln County, 115 Kansas City Road, Ruidoso, NM 88345. | February 5, 2015 | 350122
New York:
Cattaraugus, (FEMA Docket No.: B-1444). | Town of Ellicottville, (14-02-1952P). | The Honorable John Burrell, Supervisor, Town of Ellicottville, P.O. Box 600, Ellicottville, NY 14731. | Building Department Office, 9 Mill Street, Ellicottville, NY 14731. | February 4, 2015 | 360069
Cattaraugus, (FEMA Docket No.: B-1444). | Village of Ellicottville, (14-02-1952P). | The Honorable Charles R. Coolidge, Mayor, Village of Ellicottville, P.O. Box 475, Ellicottville, NY 14731. | Building Department Office, 9 Mill Street, Ellicottville, NY 14731. | February 4, 2015 | 360070
Pennsylvania:
Chester, (FEMA Docket No.: B-1458). | Township of Caln, (14-03-1638P). | The Honorable John Contento, President, Caln Township Board of Commissioners, 253 Municipal Drive, Thorndale, PA 19372. | Caln Township Municipal Building, 253 Municipal Drive, Thorndale, PA 19372. | February 6, 2015 | 422247
Dauphin, (FEMA Docket No.: B-1458). | Township of Derry, (14-03-0956P). | The Honorable John Foley, Chairman, Derry Township Board of Supervisors, 600 Clearwater Road, Hershey, PA 17033. | Derry Township Municipal Building, 600 Clearwater Road, Hershey, PA 17033. | February 6, 2015 | 420376
Texas:
Bowie, (FEMA Docket No.: B-1458). | Unincorporated areas of Bowie County, (13-06-3716P). | The Honorable James Carlow, Bowie County Judge, 710 James Bowie Drive, New Boston, TX 75570. | Bowie County Courthouse, 710 James Bowie Drive, New Boston, TX 75570. | January 27, 2015 | 481194
Collin, (FEMA Docket No.: B-1458). | City of Wylie, (14-06-1119P). | The Honorable Eric Hogue, Mayor, City of Wylie, 300 Country Club Road, Building 100, Wylie, TX 75098. | 300 Country Club Road, Building 100, Wylie, TX 75098. | February 5, 2015 | 480759
Dallas and Denton, (FEMA Docket No.: B-1458). | City of Coppell, (14-06-1947P). | The Honorable Karen Hunt, Mayor, City of Coppell, P.O. Box 9478, Coppell, TX 75019. | Engineering Department, 265 Parkway Boulevard, Coppell, TX 75019. | February 9, 2015 | 480170
Kendall, (FEMA Docket No.: B-1458). | City of Boerne, (14-06-2663P). | The Honorable Mike Schultz, Mayor, City of Boerne, 402 East Blanco Road, Boerne, TX 78006. | Department of Planning and Community Development, 402 East Blanco Road, Boerne, TX 78006. | February 9, 2015 | 480418
Tarrant, (FEMA Docket No.: B-1458). | City of Colleyville, (14-06-2163P). | The Honorable David Kelly, Mayor, City of Colleyville, 100 Main Street, Colleyville, TX 76034. | Engineering Division, 100 Main Street, 2nd Floor, Colleyville, TX 76034. | February 3, 2015 | 480590
Tarrant, (FEMA Docket No.: B-1458). | City of Southlake, (14-06-2163P). | The Honorable John Terrell, Mayor, City of Southlake, 1400 Main Street, Suite 270, Southlake, TX 76092. | Public Works Administration and Engineering Division, 1400 Main Street, Suite 320, Southlake, TX 76092. | February 3, 2015 | 480612
Virginia:
Prince William (FEMA Docket No.: B-1458). | Unincorporated areas of Prince William County, (14-03-0598P). | The Honorable Melissa S. Peacor, Prince William County Executive, 1 County Complex Court, Prince William, VA 22192. | Prince William County, James J. McCoart Administration Building, 5 County Complex Court, Suite 170, Prince William, VA 22192. | January 22, 2015 | 510119
Stafford, (FEMA Docket No.: B-1458). | Unincorporated areas of Stafford County, (14-03-1089P). | The Honorable Gary Snellings, Chairman, Stafford County Board of Supervisors, P.O. Box 339, Stafford, VA 22555. | Stafford County Administration Center, 1300 Courthouse Road, Stafford, VA 22554. | February 4, 2015 | 510154

[FR Doc. 2015-11963 Filed 5-15-15; 8:45 am]

BILLING CODE 9110-12-P